DEPARTMENT OF THE INTERIOR

Fish and Wildlife Service

[FWS-R2-ES-2015-N065; FXES11120200000-156-FF02ENEH00]

Draft Environmental Assessment and Draft Habitat Conservation Plan; CEMEX Balcones Quarry Northeast Area in Comal County, Texas

AGENCY: Fish and Wildlife Service, Interior.

ACTION: Notice of availability; request for public comments.

SUMMARY: We, the U.S. Fish and Wildlife Service (Service), make available the draft Environmental Assessment (dEA) for the draft CEMEX Balcones Quarry Northeast Area Habitat Conservation Plan (CEMEX dHCP) and the CEMEX dHCP. CEMEX Construction Materials South, LLC (Applicant), has applied to the Service for an incidental take permit (ITP) under section 10(a)(1)(B) of the Endangered Species Act (Act) of 1973, as amended. The requested permit, which would be in effect for a period of 15 years, if granted, would authorize incidental take of the federally listed golden-cheeked warbler (Setophaga chrysoparia, GCWA). The proposed take would occur on 199.4 acres (Permit Area) within the CEMEX Balcones Quarry Northeast Area tract in Comal County, Texas, as a result of activities associated with the Applicant's proposed clearing and implementation of quarrying activities (Covered Activities).

DATES: To ensure consideration, written comments must be received or postmarked on or before July 13, 2015.

ADDRESSES:

Availability of Documents:

Internet: You may obtain copies of all of the documents on the Internet at the Service's Web site at http://www.fws.gov/southwest/es/AustinTexas/.

U.S. Mail: A limited number of CD-ROM and printed copies of the draft EA and draft HCP are available, by request, from Mr. Adam Zerrenner, Austin Ecological Services Field Office, 10711 Burnet Road, Suite 200, Austin, TX 78758-4460; telephone 512-490-0057; fax 512-490-0974. Please note that your request is in reference to the CEMEX dHCP.

The ITP application is available by mail from the Regional Director, U.S. Fish and Wildlife Service, P.O. Box 1306, Room 6034, Albuquerque, NM 87103.

• In-Person: Copies of the dEA and dHCP are also available for public inspection and review at the following locations, by appointment and written request only, 8 a.m. to 4:30 p.m.:

○ U.S. Fish and Wildlife Service, 500 Gold Avenue SW., Room 6034, Albuquerque, NM 87102.

○ U.S. Fish and Wildlife Service, 10711 Burnet Road, Suite 200, Austin, TX 78758.

Comment submission: You may submit written comments by one of the following methods:

• Electronically: Submit electronic comments to FW2_AUES_Consult@fws.gov. Please note that your request is in reference to the CEMEX dHCP.

• By hard copy: Mr. Adam Zerrenner, Austin Ecological Services Field Office, 10711 Burnet Road, Suite 200, Austin, TX 78758-4460; telephone 512-490-0057; fax 512-490-0974. Please note that your request is in reference to the CEMEX dHCP.

Please refer to permit number TE58612B when submitting comments. We request that you send comments by only the methods described above.

FOR FURTHER INFORMATION CONTACT: Adam Zerrenner, Field Supervisor, U.S. Fish and Wildlife Service, 10711 Burnet Road, Suite 200, Austin, TX 78758 or (512) 490-0057.

SUPPLEMENTARY INFORMATION: We, the U.S. Fish and Wildlife Service, make available the draft Environmental Assessment (dEA) for the CEMEX Balcones Quarry Northeast Area Habitat Conservation Plan (CEMEX dHCP) and the dHCP. In accordance with the requirements of the National Environmental Policy Act of 1969 (NEPA) (42 U.S.C. 4321 et seq.), we advise the public that:

1. We have gathered the information necessary to determine impacts and formulate alternatives for the dEA related to potential issuance of an ITP to the Applicant; and

2. The Applicant has developed a dHCP as part of the application for an ITP, which describes the measures the Applicant has agreed to take to minimize and mitigate the effects of incidental take of GCWAs to the maximum extent practicable pursuant to section 10(a)(1)(B) of the Act.

The applicant has applied for an ITP that would be in effect for 15 years, if granted, and would authorize incidental take of the federally endangered GCWA. As described in the dHCP, the proposed incidental take would occur on 199.4 acres in Comal County, Texas, and would result from activities associated with otherwise lawful activities, including the clearing and implementation of quarrying activities (Covered Activities). The dEA considers the direct, indirect, and cumulative effects of implementation of the dHCP, including the measures that will be implemented to minimize and mitigate, to the maximum extent practicable, the impacts of the incidental take of the GCWA.

Proposed Action

The proposed action involves the issuance of an ITP by the Service for the Covered Activities in the Permit Area, pursuant to section 10(a)(1)(B) of the Act. The ITP would cover “take” of the GCWA associated with the clearing and implementation of quarrying activities within the Permit Area.

The requested term of the permit is 15 years. To meet the requirements of a section 10(a)(1)(B) ITP, the Applicant has developed and proposes to implement its dHCP, which describes the conservation measures the Applicant has agreed to undertake to minimize and mitigate for the impacts of the proposed incidental take of the GCWA to the maximum extent practicable, and ensures that incidental take will not appreciably reduce the likelihood of the survival and recovery of the species in the wild.

The Applicant proposes to mitigate with the purchase of 147.44 acres of high-quality habitat, likely from a Service-approved conservation bank with Comal County in its service area.

Alternatives

The only alternative to the proposed action we are considering as part of this process is the No Action alternative, in which no ITP would be issued. Under a No Action alternative, the Service would not issue the requested ITP for the CEMEX Balcones Northeast Area Tract, and, therefore, the Applicant would not implement the conservation measures described in the dHCP.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act and its implementing regulations (50 CFR 17.22 and 17.32) and NEPA and its implementing regulations (40 CFR 1506.6).

Dated: April 16, 2015.
Joy E. Nicholopoulos,
Acting Regional Director, Southwest Region, Albuquerque, New Mexico.

[FR Doc. 2015-11521 Filed 5-12-15; 8:45 am]

BILLING CODE 4310-55-P